DEPARTMENT OF ENERGY

Federal Energy Regulatory Commission

[Docket No. DI24-4-000]

Paradigm Shift Hydro, LLC; Notice of Declaration of Intention and Soliciting Comments, Protests, and Motions To Intervene

Take notice that the following application has been filed with the Commission and is available for public inspection:

a. Application Type: Declaration of Intention.

b. Docket No: DI24-4-000.

c. Date Filed: December 5, 2023.

d. Applicant: Paradigm Shift Hydro, LLC.

e. Name of Project: Partridge Peak Energy Project.

f. Location: The proposed Partridge Peak Energy Project would be located near the town of Roxbury in Oxford County, Maine.

g. Filed Pursuant to: Section 23(b)(1) of the Federal Power Act, 16 U.S.C. 817(b).

h. Applicant Contact: Jonathan Petrillo, 270 Bellevue Avenue, PMB #1053, Newport, RI 02840; telephone: (203) 623-4637; email: jon@paradigmshifthydro.com.

i. FERC Contact: Maryam Akhavan, (202) 502-6110, or Maryam.Akhavan@ferc.gov.

j. Deadline for filing comments, protests, and motions to intervene is: August 29, 2025.

The Commission strongly encourages electronic filing. Please file comments, protests, and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number DI24-4-000. Comments emailed to Commission staff are not considered part of the Commission record.

k. Description of Project: The proposed Partridge Peak Energy Project is a closed-loop pumped storage hydropower facility that would consist of: (1) two artificial reservoirs (upper and lower) each with a storage capacity of approximately 50 acre-feet, formed by two steel storage tanks; (2) two penstocks connecting the upper and lower reservoir tanks, each 3,750-foot-long and 5-foot-diameter; (3) an approximately 50-foot-wide, 50-foot-long, and 25-foot-tall reinforced concrete and steel powerhouse; (4) a single turbine with a generating capacity of 15 megawatts (MW); (5) an approximately 1-mile-long overhead transmission line interconnecting with the existing Central Maine Power system; and (6) appurtenant facilities. The applicant states that the initial fill water for the project would be sourced from commercially available sources and delivered via tanker trucks to the lower reservoir.

When a Declaration of Intention is filed with the Federal Energy Regulatory Commission, the Federal Power Act requires the Commission to investigate and determine if the project would affect the interests of interstate or foreign commerce. The Commission also determines whether or not the project: (1) would be located on a navigable waterway; (2) would occupy public lands or reservations of the United States; (3) would utilize surplus water or water power from a government dam; or (4) would be located on a non-navigable stream over which Congress has Commerce Clause jurisdiction and would be constructed or enlarged after 1935.

l. Locations of the Application: This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must bear in all capital letters the title “COMMENTS”, “PROTESTS”, and “MOTIONS TO INTERVENE”, as applicable, and the Docket Number of the particular application to which the filing refers. A copy of any Motion to Intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

Dated: July 30, 2025.
Carlos D. Clay,
Deputy Secretary.

[FR Doc. 2025-14700 Filed 8-1-25; 8:45 am]

BILLING CODE 6717-01-P